DEPARTMENT OF ENERGY

Federal Energy Regulatory Commission

[Docket Nos. ER02-2330-029, ER02-2330-033, ER04-1255-000, ER04-1255-001, EL04-102-004, ER03-563-025, RT04-2-012, ER04-116-012, RT04-2-010, ER04-157-012, EL01-39-010, and ER05-439-000]

New England Power Pool and ISO New England Inc., ISO New England Inc., Devon Power LLC, et al., ISO New England, Inc. and Bangor Hydro, et al., ISO New England, Inc. and Bangor Hydro, et al., ISO New England, Inc.; Supplemental Notice of Technical Conference

February 28, 2005.

As announced in a Notice of Technical Conference issued on January 28, 2005, in the above referenced proceedings, a technical conference will be held on March 4, 2005, from 10 a.m. to 4 p.m. (e.s.t.) at the Seaport World Trade Center (Harborview Ballroom), 200 Seaport Boulevard, in Boston, Massachusetts. Members of the Commission and staff are expected to participate. The purpose of the conference is to discuss market improvements currently being considered by ISO New England Inc. and market participants in New England. Attached is the agenda for the conference.

The conference is open for the public to attend and preregistration is not required; however, attendees are asked to register for the conference on-line by close of business on Wednesday, March 2, at http://www.ferc.gov/whats-new/registration/iso-03-04-form.asp. Attendees may also register on-site.

Transcripts of the conference will be immediately available from Ace Reporting Company (202) 347-3700 or 1-800-336-6646) for a fee. They will be available for the public on the Commission's eLibrary system seven calendar days after the Commission receives the transcript. Additionally, Capitol Connection offers the opportunity for remote listening of the conference via Real Audio or a Phone Bridge Connection for a fee. Persons interested in making arrangements should contact David Reininger or Julia Morelli at the Capitol Connection (703) 993-3100) as soon as possible or visit the Capitol Connection Web site at http://www.capitolconnection.org and click on “FERC.”

For additional information, please contact Anna Cochrane at (202) 502-6357; anna.cochrane@ferc.gov, or Sarah McKinley at (202) 502-8004; sarah.mckinley@ferc.gov.

Magalie R. Salas,
Secretary.

New England Power Pool and ISO New England Inc.

Docket No. ER02-2330-029

Boston, Massachusetts

March 4, 2005

Technical Conference Agenda

10 a.m.—Opening Remarks and Introductions

Wholesale Markets Overview

Gordon van Welie, Chief Executive Officer, ISO New England Inc.

Donald Sipe, Chairman, NEPOOL Participants Committee

Roundtable Discussion on Implementation Sequence

Vamsi Chadalavada, Senior Vice President, Market and System Solutions, ISO-NE

Daniel Allegretti, Vice President Regulatory, Contellation Energy Commodities Group, Inc.

Robert Weishaar, McNees Wallace & Nurick, on behalf of NEPOOL Industrial Customer Coalition

Carmel Gondek, Manager, Retail Access Planning and Support, Northeast Utilities Service Co.

Paul Peterson, Synapse Energy Economics, Inc. on behalf of New Hampshire Officer of Consumer Advocate and Connecticut Office of Consumer Counsel

Lunch Break

12:30 p.m.—Ancillary Services Market Design—Overview

Charles Ide, NEPOOL Markets Committee Chair, ISO-NE

Eric Stinneford, NEPOOL Markets Committee Vice-Chair, Central Maine Power

Marc Montalvo, Manager, Markets Development, ISO-NE

Roundtable Discussion on Ancillary Services Market Design

Joseph Staszowski, Director, Generation Resource Planning & Cogen. Admin., Northeast Utilities Services Co.

Timothy Peet, Massachusetts Municipal Wholesale Electric Co.

Robert Stein, Signal Hill Consulting Group, on behalf of HydroQuebec US

Thomas Kaslow, Calpine Energy Services

Thomas Atkins, Pinpoint Power LLC and New England Demand Response Providers

Paul Peterson, Synapse Energy Economics, Inc. on behalf of New Hampshire Office of Consumer Advocate and Connecticut Office of Consumer Counsel

Robert Weishaar, McNees, Wallace & Nurick, on behalf of NEPOOL Industrial Customer Coalition

Timothy Brennan, National Grid USA

Joel Gordon, Director, Market Policy, PSEG Energy Resources & Trade LLC

Peter Fuller, Director, Market Affairs, Mirant Americas Energy Marketing, LP

3:30 p.m.—Closing Remarks

4 p.m.—Adjourn

[FR Doc. E5-910 Filed 3-4-05; 8:45 am]

BILLING CODE 6717-01-P